DEPARTMENT OF HEALTH AND HUMAN SERVICES

Centers for Disease Control and Prevention

Disease, Disability, and Injury Prevention and Control Special Emphasis Panel (SEP): Initial Review

The meeting announced below concerns Research to Prevent Prescription Drug Overdoses, Funding Opportunity Announcement CE14-002, initial review.

SUMMARY: This document corrects a notice that was published in the Federal Register on April 17, 2014 (79 FR 21759). The time and date should read as follows:

TIME AND DATE: 12:00 p.m.-7:00 p.m., May 7, 2014 (Closed).

FOR FURTHER INFORMATION CONTACT: Jane Suen, Dr. P.H., M.S., Scientific Review Officer, CDC, 4770 Buford Highway NE., Mailstop F63, Atlanta, Georgia 30341-3724, Telephone: (770) 488-4281, JSuen@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-10145 Filed 5-2-14; 8:45 am]

BILLING CODE 4163-18-P